EXPORT-IMPORT BANK OF THE UNITED STATES

Sunshine Act Meeting

ACTION: Notice of a Partially Open Meting of the Board of Directors of the Export-Import Bank of the United States.

Time and Place: Thursday, January 10, 2008 at 9:30 AM. the meeting will be held at Ex-Im Bank in Room 1143, 811 Vermont Avenue, NW., Washington, DC 20571.

Open Agenda Items: Item No. 1: Transaction Due Diligence Best Practices.

Public Participation: The meeting will be open to public participation for Item No. 1 only.

Further Information: For further information, contact: Office of the Secretary, 811 Vermont Avenue, NW., Washington, DC 20571 (Tele. No. 202-565-3957).

Howard A. Schweitzer,
General Counsel.

[FR Doc. 08-55 Filed 1-4-08; 2:54 pm]

BILLING CODE 6690-01-M